DEPARTMENT OF THE INTERIOR

Geological Survey

[GX24BD009AV0100; OMB Control Number 1028-012]

Agency Information Collection Activities; Submission to the Office of Management and Budget for Review and Approval; Cooperative Research Units (CRU)

AGENCY: U.S. Geological Survey, Department of the Interior.

ACTION: Notice of information collection; request for comment.

SUMMARY: In accordance with the Paperwork Reduction Act of 1995 (PRA), the U.S. Geological Survey (USGS) is proposing to renew an information collection.

DATES: Interested persons are invited to submit comments on or before April 25, 2024.

ADDRESSES: Written comments and recommendations for the proposed information collection should be sent within 30 days of publication of this notice to www.reginfo.gov/public/do/PRAMain. Find this particular information collection by selecting “Currently under Review—Open for Public Comments” or by using the search function. Please provide a copy of your comments to USGS, Information Collections Clearance Officer, 12201 Sunrise Valley Drive, MS 159, Reston, VA 20192 or by email to gs-info_collections@usgs.gov. Please reference OMB Control Number 1028-0126 in the subject line of your comments.

FOR FURTHER INFORMATION CONTACT: To request additional information about this Information Collection Request (ICR), contact Melissa Thode, Program Analyst, CRU by email at mthode@usgs.gov, or by telephone at 703-648-4265. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the Paperwork Reduction Act of 1995 (PRA, 44 U.S.C. 3501 et seq.) and 5 CFR 1320.8(d)(1), we provide the general public and other federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on October 6, 2023, (88 FR 69654). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Abstract: CRU Cooperating Universities submit applications for research work orders via Grants.gov. The Statutory Authority used is the Cooperative Research Units Act (16 U.S.C. 753a-753b), Public Law 86-686, Sec. 1, Sept. 2, 1960, 74 Stat. 733, as amended by the Fish and Wildlife Improvement Act of 1978, Public Law 95-616, Sec. 2, Nov. 8, 1978, 92 Stat. 3110. Applications consist of project proposals, budgets and SF-424 forms. Information submitted includes project titles, schedules, scope of work, contact information (names, emails, addresses, position titles, telephone), and detailed budget breakdowns (salaries includes names, positions, rate of compensation) per Office of Acquisition requirements.

Only CRU Cooperating Universities (applicants/recipients) can apply to the Research Work Order (RWO) component of the CRU Program. All proposals & SF-424 forms (includes budgets) are submitted electronically through Grants.gov. USGS/Office of Acquisition and Grants uses this information to process the RWO award.

Title of Collection: Cooperative Research Units.

OMB Control Number: 1028-0126.

Form Number: None.

Type of Review: Renewal.

Respondents/Affected Public: CRU Cooperating Universities.

Total Estimated Number of Annual Respondents: 43.

Total Estimated Number of Annual Responses: 428.

Estimated Completion Time per Response: Between 10 minutes and 40 hours, depending on activity.

Total Estimated Number of Annual Burden Hours: 2,325.

Respondent's Obligation: Necessary to retain/obtain a benefit.

Frequency of Collection: Varies with research work order but at a minimum is responsible for initial applications, progress report and final report.

Total Estimated Annual Nonhour Burden Cost: None.

An agency may not conduct or sponsor, and a person is not required to respond to, a collection of information unless it displays a currently valid OMB control number.

The authority for this action is the PRA (44 U.S.C. 3501 et seq.).

Donald Dennerline,
Acting Deputy Chief, U.S. Geological Survey, Cooperative Research Units.

[FR Doc. 2024-06428 Filed 3-25-24; 8:45 am]

BILLING CODE 4388-11-P